DEPARTMENT OF JUSTICE

Notice of Lodging of Consent Decree

Notice is hereby given that a proposed Consent Decree with Mallinckrodt, Inc., in United States v. Mallinckrodt, Inc.; Shell Oil Company and Solutia, Inc., Civil Action No. 4:02-1488, was lodged on January 16, 2008 with the United States District Court for the Eastern District of Missouri.

The United States of America (“United States”), on behalf of the Administrator of the EPA, filed a compliant against Mallinckrodt, Inc. (“Mallinckrodt”) in this matter pursuant to Section 107 of the Comprehensive Environmental Response, Compensation, and Liability Act of 1980, as amended (“CERCLA”), 42 U.S.C. 9607, seeking recovery of costs incurred and to be incurred in responding to the release or threat of release of hazardous substances at or in connection with the Great Lakes container Corporation Superfund Site at 42 Ferry Street in St. Louis, Missouri (“Site”). The Consent Decree resolves the United States' claims by requiring the defendant, Mallinckrodt, to reimburse the United States for its costs in cleaning up the Site. The Consent Decree will result in the payment of $3,950,000.00 to the Superfund.

The Department of Justice will receive, for a period of thirty (30) days from the date of this publication, comments relating to the proposed consent decree. Comments should be addressed to the Assistant Attorney General, Environment and Natural Resources Division, and either e-mailed to pubcomment-ees.enrd@usdoj.gov or mailed to P.O. Box 7611, U.S. Department of Justice, Washington, DC 20044-7611, and should refer to United States v. Mallinckrodt, Inc.; Shell Oil Company and Solutia, Inc., DOJ Ref. #90-11-3-07280. The proposed consent decree may be examined at the office of the United States Attorney, United States Attorney's Office, Eastern District of Missouri, Thomas F. Eagleton Courthouse, 111 South 10th Street, 20th Floor, St. Louis, MO 63102 and at the Region VII Office of the Environmental Protection Agency, 901 North 5th Street, Kansas City, KS 66101. During the public comment period, the proposed consent decree may also be examined on the Department of Justice Web site, at http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $5.25 (or $4.50, for a copy that omits the exhibits and signature pages) (25 cents per page reproduction cost) payable to the U.S. Treasury or, if by e-mail or fax, forward a check in that amount to the Consent Decree Library at the stated address.

Robert E. Maher, Jr.,
Assistant Section Chief Environmental Enforcement Section, Environment and Natural Resources Division.

[FR Doc. 08-412 Filed 1-30-08; 8:45 am]

BILLING CODE 4410-15-M